DEPARTMENT OF THE INTERIOR

Bureau of Land Management

[LLWY-957400-09-L14200000-BJ0000]

Notice of Filing of Plats of Survey, Wyoming

AGENCY: Bureau of Land Management, Interior.

ACTION: Notice of filing of plats of survey, Wyoming.

SUMMARY: The Bureau of Land Management (BLM) is scheduled to file the plat of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Land Management and is necessary for the management of these lands. The lands surveyed are:

The plat and field notes representing the dependent resurvey of a portion of the south boundary and subdivisional lines, and the subdivision of section 33, Township 34 North, Range 110 West, of the Sixth Principal Meridian, Wyoming, Group No. 726, was accepted July 9, 2009.

Copies of the preceding described plat and field notes are available to the public at a cost of $1.10 per page.

Dated: July 10, 2009.
John P. Lee,
Chief Cadastral Surveyor, Division of Support Services.

[FR Doc. E9-16917 Filed 7-15-09; 8:45 am]

BILLING CODE 4310-22-P